FEDERAL MARITIME COMMISSION

46 CFR Part 545

[Docket No. 19-05]

RIN 3072-AC76

Interpretive Rule on Demurrage and Detention Under the Shipping Act

AGENCY: Federal Maritime Commission.

ACTION: Notice of proposed rulemaking; extension of comment period.

SUMMARY: The Federal Maritime Commission is seeking public comment on its interpretation of the Shipping Act prohibition against failing to establish, observe, and enforce just and reasonable regulations and practices relating to or connected with receiving, handling, storing, or delivering property with respect to demurrage and detention. Specifically, the Commission is providing guidance as to what it will consider in assessing whether a demurrage or detention practice is unjust or unreasonable. Upon consideration of the request of the Agriculture Transportation Coalition (AgTC), the Commission has determined to extend the comment period in this matter to October 31, 2019.

DATES: Comments on the notice of proposed rulemaking, published on September 17, 2019 (84 FR 48850), are due on or before October 31, 2019.

ADDRESSES: You may submit comments by the following methods:

• Email: secretary@fmc.gov. Include in the subject line: “Docket 19-05, Demurrage & Detention Comments.” Comments should be attached to the email as a Microsoft Word or text-searchable PDF document. Only non-confidential and public versions of confidential comments should be submitted by email.

• Mail: Rachel E. Dickon, Secretary, Federal Maritime Commission, 800 North Capitol Street NW, Washington, DC 20573-0001.

FOR FURTHER INFORMATION CONTACT: Rachel E. Dickon, Secretary; Phone: (202) 523-5725; Email: secretary@fmc.gov.

Rachel Dickon,
Secretary.

[FR Doc. 2019-20790 Filed 9-24-19; 8:45 am]

BILLING CODE 6731-AA-P